DEPARTMENT OF COMMERCE

National Oceanic and Atmospheric Administration

RIN 0648-XA929

Marine Mammals; Photography Permit File No. 17032

AGENCY: National Marine Fisheries Service (NMFS), National Oceanic and Atmospheric Administration (NOAA), Commerce.

ACTION: Notice; issuance of permit.

SUMMARY: Notice is hereby given that a permit has been issued to Shane Moore, Moore & Moore Films, Box 2980, 1203 Melody Creek Lane, Jackson, WY 83001 to conduct commercial/educational photography in Alaska.

ADDRESSES: The permit and related documents are available for review upon written request or by appointment in the following offices:

Permits and Conservation Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

FOR FURTHER INFORMATION CONTACT: Carrie Hubard or Joselyd Garcia-Reyes, (301) 427-8401.

SUPPLEMENTARY INFORMATION: On January 13, 2012, notice was published in the Federal Register (77 FR 2037) that a request for a permit for commercial/educational photography had been submitted by the above-named applicant. The requested permit has been issued under the authority of the Marine Mammal Protection Act of 1972, as amended (16 U.S.C. 1361 et seq.) and the regulations governing the taking and importing of marine mammals (50 CFR part 216).

Permit No. 17032 authorizes Mr. Moore to film gray (Eschrichtius robustus) and killer (Orcinus orca) whales in the eastern Aleutian Islands, primarily near Ikatan Bay and along the Ikatan Peninsula on the south side of Unimak Island, Alaska. The purpose of the project is to document killer whales hunting gray whales migrating through False Pass and Unimak Pass and to record the behavior of marine animals in the presence of a gray whale carcass. Filming will occur between April and June of each year. A maximum of 35 killer whales and 10 gray whales could be closely approached annually. Footage will be obtained from vessel-mounted cameras, a polecam that may be submerged next to the boat, and, as the opportunity arises, from a remotely operated video camera in an underwater housing placed on the sea floor near a gray whale carcass. Footage will be used for a television program about predators and the challenges they face. The permit will expire on April 15, 2017.

In compliance with the National Environmental Policy Act of 1969 (42 U.S.C. 4321 et seq.), a final determination has been made that the activity proposed is categorically excluded from the requirement to prepare an environmental assessment or environmental impact statement.

Dated: April 18, 2012.
Tammy C. Adams,
Acting Chief, Permits and Conservation Division, Office of Protected Resources, National Marine Fisheries Service.

[FR Doc. 2012-9857 Filed 4-23-12; 8:45 am]

BILLING CODE 3510-22-P